DEPARTMENT OF TRANSPORTATION

Federal Aviation Administration

RTCA Special Committee 196: Night Vision Goggle (NVG) Appliances and Equipment

AGENCY: Federal Aviation Administration (FAA), DOT.

ACTION: Notice of RTCA Special Committee 196 meeting.

SUMMARY: The FAA is issuing this notice to advise the public of a meeting of RTCA Special Committee 196: Night Vision Goggle (NVG) Appliances and Equipment.

DATES: The meeting will be held August 10-11, 2004 starting at 9 am.

ADDRESSES: The meeting will be held at RTCA, 1818 L Street, NW., Suite 805, Washington, DC 20036-5133.

FOR FURTHER INFORMATION CONTACT: RTCA Secretariat, 1140 Connecticut Avenue, NW., Washington, DC, 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 196 meeting. The agenda will include:

• August 10-11:

• Opening Session (Welcome and Introductory Remarks, Agenda Overview, Approve Minutes of Previous Meeting)

• Approval of the Summary of the Eleventh Meeting

• RTCA Paper No. 102-04/SC196-031

• Overview SC-196 Working Group Activities

• Working Group 5—Training Guidelines/Considerations

• Review/Approval Final Draft—NVG Training Guidelines

• RTCA Paper No. 103-04/SC-196-032

• Closing Session (Other Business, Establish Agenda for Next Meeting, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 14, 2004.
Robert Zoldos,
FAA System Engineer, RTCA Advisory Committee.

[FR Doc. 04-16851 Filed 7-22-04; 8:45 am]

BILLING CODE 4910-13-M